ENVIRONMENTAL PROTECTION AGENCY

[EPA-HQ-OPP-2022-0223; FRL-10138-02-OCSPP]

Chlorpyrifos; Amendment to Provisions for Disposition of Existing Stocks

AGENCY: Environmental Protection Agency (EPA).

ACTION: Notice.

SUMMARY: On August 31, 2022, EPA announced its order for the cancellations for 16 chlorpyrifos products (including the products listed in Table 1 of Unit II.) pursuant to the Federal Insecticide, Fungicide, and Rodenticide Act (FIFRA), which were voluntarily requested by the registrants and accepted by the Agency. The Agency is issuing this notice to amend the existing stocks provisions in that order, specifically for the products listed in this document.

ADDRESSES: The docket for this action, identified under docket identification (ID) number EPA-HQ-OPP-2022-0223, is available online at https://www.regulations.gov. Additional instructions on visiting the docket, along with more information about dockets generally, is available at https://www.epa.gov/dockets.

FOR FURTHER INFORMATION CONTACT: Patricia Biggio, Pesticide Re-Evaluation Division (7508P), Office of Pesticide Programs, Environmental Protection Agency, 1200 Pennsylvania Ave. NW, Washington, DC 20460-0001; telephone number: 202-566-0700; email address: OPPChlorpyrifosInquiries@epa.gov.

SUPPLEMENTARY INFORMATION:

I. General Information

Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

II. What action is the Agency taking?

Existing stocks are those stocks of registered pesticide products that are currently in the United States and that were packaged, labeled, and released for shipment prior to the effective date of the cancellation action. The provisions for disposition of existing stocks laid out in Unit IV. of the Cancellation Order for Certain Chlorpyrifos Registrations (87 FR 53471, August 31, 2022 (FRL-10138-01-OCSPP)) are as follows: “Because chlorpyrifos tolerances have been revoked and use of chlorpyrifos renders food adulterated all sale, distribution, and use of the chlorpyrifos products identified in Table 1 of Unit I. is prohibited, except for export consistent with FIFRA section 17 (7 U.S.C. 136o), or for proper disposal.” It was recently called to the Agency's attention that the cancelled products identified in the August 31, 2022 order (Table 1), were registered for only non-food uses or had labels which did not include food uses.

Table 1—Chlorpyrifos Product Registrations With Revised Provisions for Existing Stocks
EPA registration No. | Product name | Company
499-405 | Whitmire PT 1920 Total Release Insecticide | BASF.
499-367 | Whitmire PT 275 DUR-O-CAP Microencapsulated Chlorpyrifos | BASF.

Table 2—Registrants With Revised Provisions for Existing Stocks
EPA company No. | Company name and address
499 | BASF Corporation, 26 Davis Drive, P.O. Box 13528, Research Triangle Park, NC 27709-3528.

Pesticide products containing chlorpyrifos that are registered for only non-food uses were not impacted by the tolerance revocation, and thus the same reasons for prohibiting sale, distribution, and use do not apply. Therefore, EPA is amending the cancellation order to provide different existing stocks language for the products listed in Table 1 and for the registrant in Table 2.

III. Provisions for Disposition of Existing Stocks

Existing stocks are those stocks of registered pesticide products that are currently in the United States and that were packaged, labeled, and released for shipment prior to the effective date of the cancellation action. At this time, the Agency has identified no significant potential risk concerns associated with the products identified in Table 1 of Unit II. Therefore, EPA is allowing the registrant listed in Table 2 of Unit II. to sell and distribute existing stocks of these products for one year after publication of the August 31, 2022. Cancellation Order in the Federal Register (87 FR 53471). As such, the registrant may sell the products in Table 1 until August 31, 2023. Thereafter, registrant listed in Table 2 of Unit II. will be prohibited from selling or distributing the pesticide products identified in Table 1 of Unit II., except for export consistent with FIFRA section 17 (7 U.S.C. 136o) or for proper disposal.

Persons other than registrants will generally be allowed to sell, distribute, or use existing stocks until such stocks are exhausted, provided that such sale, distribution, or use is consistent with the terms of the previously approved labeling on, or that accompanied, the canceled products.

List of Subjects in 40 CFR Part 180

Environmental protection, Pesticides and pests, Cancellation.

Dated: January 23, 2023.
Mary Elissa Reaves,
Director, Pesticide Re-Evaluation Division, Office of Pesticide Programs.

[FR Doc. 2023-01655 Filed 1-26-23; 8:45 am]

BILLING CODE 6560-50-P